DEPARTMENT OF HEALTH AND HUMAN SERVICES

Centers for Disease Control and Prevention

[60Day-15-0572]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Health Message Testing System (HMTS) (OMB No. 0920-0572, expires 02/28/2015)—Extension—Office of the Associate Director for Communication (OADC), Centers for Disease Control and Prevention (CDC).

Background and Brief Description

Before CDC disseminates a health message to the public, the message always undergoes scientific review. However, even though the message is based on sound scientific content, there is no guarantee that the public will understand a health message or that the message will move people to take recommended action. Communication theorists and researchers agree that for health messages to be as clear and influential as possible, target audience members or representatives must be involved in developing the messages and provisional versions of the messages must be tested with members of the target audience.

However, increasingly there are circumstances when CDC must move swiftly to protect life, prevent disease, or calm public anxiety. Health message testing is even more important in these instances, because of the critical nature of the information need.

In the interest of timely health message dissemination, many programs forgo the important step of testing messages on dimensions such as clarity, salience, appeal, and persuasiveness (i.e., the ability to influence behavioral intention). Skipping this step avoids the delay involved in the standard OMB review process, but at a high potential cost. Untested messages can waste communication resources and opportunities because the messages can be perceived as unclear or irrelevant. Untested messages can also have unintended consequences, such as jeopardizing the credibility of Federal health officials.

The Health Message Testing System (HMTS), a generic information collection, enables programs across CDC to collect the information they require in a timely manner to:

• Ensure quality and prevent waste in the dissemination of health information by CDC to the public.

• Refine message concepts and to test draft materials for clarity, salience, appeal, and persuasiveness to target audiences.

• Guide the action of health communication officials who are responding to health emergencies, Congressionally-mandated campaigns with short timeframes, media-generated public concern, time-limited communication opportunities, trends, and the need to refresh materials or dissemination strategies in an ongoing campaign.

Each testing instrument will be based on specific health issues or topics. Although it is not possible to develop one instrument for use in all instances, the same kinds of questions are asked in most message testing. This package includes generic questions and formats that can used to develop health message testing data collection instruments. These include a list of screening questions, comprised of demographic and introductory questions, along with other questions that can be used to create a mix of relevant questions for each proposed message testing data collection method. However, programs may request to use additional questions if needed.

Message testing questions will focus on issues such as comprehension, impressions, personal relevance, content and wording, efficacy of response, channels, and spokesperson/sponsor. Such information will enable message developers to enhance the effectiveness of messages for intended audiences.

Data collection methods proposed for HMTS includes intercept interviews, telephone interviews, focus groups, online surveys, and cognitive interviews. In almost all instances, data will be collected by outside organizations under contract with CDC.

For many years CDC programs have used HMTS to test and refine message concepts and test draft materials for clarity, salience, appeal, and persuasiveness to target audiences. Having this generic clearance available has enabled them to test their information and get critical health information out to the public quickly. Over the last three years, more than 20 messages have been tested using this clearance. For example: Evaluation of Emergency Preparedness Materials for Limited English Proficient Spanish Speakers. Risk communication is a top priority in CDC's anthrax preparedness activities. The Anthrax Management Team developed materials to provide LEP Spanish-speakers with information needed to increase the chances for survival in the event that bioterrorists attacked the U.S. using anthrax. Once refined, based on participant feedback, these materials will be used in creating additional public education materials to be utilized during an anthrax emergency. The lessons learned about communication with vulnerable populations have application to others who are seeking to improve communication during a domestic or global public health emergency.

The Division of Diabetes Translation obtained OMB approval through HMTS for Testing of Brand Concepts, Messages and Materials for CDC's National Diabetes Prevention Program (National DPP). Materials testing was conducted with multiple audiences, and provided the detailed level of feedback needed to make materials that resonate with each audience. Findings have also been used to inform the development and testing of a new brand for the National DPP which will be launched in 2015.

The National Institute for Occupational Safety and Health (NIOSH) conducted a field study, Spanish Trench Safety CD-ROM, to determine the most effective way to disseminate trench safety information to Latino immigrant workers using computer-based training. Using results of this study, NIOSH produced the CD-ROM and are preparing to field test the product. As part of this project, a tutorial was also created for workers with limited computer literacy teaching them how to use the computer. The tutorial has been field tested and the English and Spanish versions will become NIOSH numbered publications.

Over 12,000 respondents were queried and over 5,500 burden hours used during this time period. Because the availability of this information collection has been so critical to programs in disseminating their materials and information to the public in a timely manner, OADC is requesting a three year extension of this information collection.

There is no cost to the respondents other than their time.

Estimated Annualized Burden Hours
Type of respondent (examples) | Form name (examples) | Number of respondents | Number of responses per respondent | Avg. burden per response | Total burden in hours
Public Health Professionals, Health Care Providers, State and Local Public Health Officials, Emergency Responders, General Public | Moderator's Guides, Eligibility Screeners, Interview Guides, Opinion Surveys, Consent Forms | 18,525 | 1 | 8/60 | 2,470
Total |  |  |  |  | 2,470

Leroy A. Richardson,
Chief, Information Collection Review Office, Office of Scientific Integrity, Office of the Associate Director for Science, Office of the Director, Centers for Disease Control and Prevention.

[FR Doc. 2014-27619 Filed 11-20-14; 8:45 am]

BILLING CODE 4163-18-P